DEPARTMENT OF THE INTERIOR

Fish and Wildlife Service

Information Collection To Be Submitted to the Office of Management and Budget for Approval Under the Paperwork Reduction Act; Annual Certification of Hunting and Sport Fishing Licenses Issued

AGENCY: Fish and Wildlife Service, Interior.

ACTION: Notice; request for comments.

SUMMARY: The U.S. Fish and Wildlife Service (We) will submit the collection of information described below to the Office of Management and Budget for approval under the provisions of the Paperwork Reduction Act (PRA). You may obtain copies of the collection requirement, related forms, and explanatory material by contacting the Service's Information Collection Clearance Officer at the address listed below. We are soliciting public comment on this information collection.

DATES: Interested parties must submit comments on or before July 7, 2003.

ADDRESSES: Mail your comments on the information collection to Anissa Craghead, Information Collection Clearance Officer, U.S. Fish and Wildlife Service, 4401 North Fairfax Drive, Suite 222, Arlington, VA 22203; or e-mail Anissa_Craghead@fws.gov.

FOR FURTHER INFORMATION CONTACT: Anissa Craghead at (703) 358-2445 or Anissa_Craghead@fws.gov.

SUPPLEMENTARY INFORMATION: The Office of Management and Budget (OMB) regulations at 5 CFR 1320, which implement provisions of the Paperwork Reduction Act of 1995 (44 U.S.C. 3501 et seq.), require that interested members of the public and affected agencies have an opportunity to comment on information collection and recordkeeping activities (see 5 CFR 1320.8(d)). We plan to submit a request to OMB to renew its approval of the collection of information related to the annual certification of hunting and sport fishing licenses issued by States, territories, and local governments. We are requesting a 3-year term of approval for this information collection activity. Federal agencies may not conduct or sponsor, and a person is not required to respond to, a collection of information unless it displays a currently valid OMB control number. The OMB control number for this collection of information is 1018-0007.

The Service administers grant programs authorized by the Federal Aid in Wildlife Restoration Act (16 U.S.C. 669-669b, 669-669k) and the Federal Aid in Sport Fish Restoration Act (16 U.S.C. 777-777m). These Acts require that States annually certify their hunting and fishing license sales. The Service uses the information collected to determine apportionment and distribution of funds under these Acts. We are proposing minimal changes to the forms we use to collect this information.

Title: Annual Certification of Hunting and Sport Fishing Licenses Issued. (Note: This collection consists of two parts: Part 1, Certification, and Part 2, Summary.)

OMB Approval Number: 1018-0007.

Service Form Number(s): 3-154a (Part 1) and 3-154b (Part 2).

Frequency of Collection: Annually.

Description of Respondents: State, territorial (the Commonwealth of Puerto Rico, the District of Columbia, the Commonwealth of the Northern Mariana Islands, Guam, the Virgin Islands, and American Samoa), and local governments, and others receiving grant funds.

Total Annual Burden:

Form name | Completion time per form (hours) | Annual number of respondents (forms) | Annual hour burden
Certification (Part 1) | ½ | 56 | 28
Summary (Part 2) | ½ | 56 | 28
Totals |  | 112 | 56

We invite comments on: (1) Whether the collection of information is necessary for the proper performance of the functions of the agency, including whether the information will have practical utility; (2) the accuracy of our estimate of the burden of the collection of information; (3) ways to enhance the quality, utility, and clarity of the information to be collected; and (4) ways to minimize the burden of collection of information on respondents, including through the use of appropriate automated, electronic, mechanical, or other technological collection techniques or other forms of information technology.

Dated: April 30, 2003.
Matt Hogan,
Acting Director, Fish and Wildlife Service.

[FR Doc. 03-11428 Filed 5-7-03; 8:45 am]

BILLING CODE 4310-55-P